DEPARTMENT OF ENERGY

Federal Energy Regulatory Commission

[Project No. 6412-001]

Empire Hydro Partners, Lyonsdale Hydroelectric Co., Inc.; Notice of Transfer of Exemption

1. By letter filed March 1, 2024, Empire Hydro Partners and Lyonsdale Hydroelectric Co., Inc. informed the Commission that the exemption from licensing for the Port Leyden Project No. 6412, originally issued April 4, 1983,¹ has been transferred to Lyonsdale Hydroelectric Co., Inc. The project is located on the Black River in the Village of Port Leyden, Towns of Leyden and Lyonsdale, Lewis County, New York. The transfer of an exemption does not require Commission approval.

¹ Lyonsdale Hydroelectric Co., Inc., 23 FERC ¶ 62,005 (1983) (Order Granting Exemption from Licensing of a Small Hydroelectric Project of 5 Megawatts or Less).

2. Lyonsdale Hydroelectric Co., Inc., located at 35 Harbor Cove Drive, The Woodlands, Texas 77381 is now the exemptee of the Port Leyden Project No. 6412.

Dated: March 18, 2024.
Debbie-Anne A. Reese,
Acting Secretary.

[FR Doc. 2024-06134 Filed 3-21-24; 8:45 am]

BILLING CODE 6717-01-P